NATIONAL SCIENCE FOUNDATION

Proposal Review Panel for Materials Research; Notice of Meeting

In accordance with the Federal Advisory Committee Act (Pub., L. 92-463, as amended), the National Science Foundation (NSF) announces the following meeting:

Name and Committee Code: Proposal Review Panel for Materials Research (DMR)—Materials Innovation Platform on BioPolymers, Automated Cellular Infrastructure, Flow, and Integrated Chemistry (BioPACIFIC MIP) Site Visit Review (#1203).

Date and Time: January 22, 2024; 7:50 a.m.-6:00 p.m. January 23, 2024; 8:00 a.m.-3:30 p.m.

Place: California Institutes for Sciences and Innovation, University of California, 1601 Elings Hall, Mesa Road, Santa Barbara, CA 93106.

Type of Meeting: Part open.

Contact Person: Z. Charles Ying, Program Director, Division of Materials Research, National Science Foundation, 2415 Eisenhower Avenue, Alexandria, VA 22314; Telephone (703) 292-8428.

Purpose of Meeting: Site visit to provide advice and recommendations concerning further support of the BioPACIFIC MIP at University of California.

Agenda

Monday, January 22, 2024

7:50 a.m.-8:20 a.m. Executive Session (Closed)

8:20 a.m.-11:30 a.m. Review of BioPACIFIC MIP (Open)

11:30 a.m.-1:30 p.m. Executive Session (Closed)

1:30 p.m.-3:30 p.m. Review of BioPACIFIC MIP (Open)

3:30 p.m.-6:00 p.m. Executive Session (Closed)

Tuesday, January 23, 2024

8:00 a.m.-3:30 p.m. Executive Session (Closed)

Reason for Closing: Topics to be discussed and evaluated during closed portions of the site review will include information of a proprietary or confidential nature, including technical information; and information on personnel. These matters are exempt under 5 U.S.C. 552b(c), (4) and (6) of the Government in the Sunshine Act.

Dated: November 21, 2023.
Crystal Robinson,
Committee Management Officer.

[FR Doc. 2023-26063 Filed 11-24-23; 8:45 am]

BILLING CODE 7555-01-P